COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List products to be furnished by nonprofit agencies employing persons who are blind or have other severe disabilities.

DATES: Comments must be received on or before September 28, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments of the proposed actions. If the Committee approves the proposed additions, the entities of the Federal Government identified in the notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited. Commenters should identify the statement(s) underlying the certification on which they are providing additional information.

End of Certification

The following products are proposed for addition to Procurement List for production by the nonprofit agencies listed:

Products

Product/NSN: H2Orange2

7930-00-NIB-0163—Ultimate Cleaner/Degreaser

7930-00-NIB-0326—Concentrate 117 Cleaner/Degreaser

7930-00-NIB-0327—Grout Safe

7930-00-NIB-0341—Crystal Carpet Concentrate

7930-00-NIB-0342—Quick Spot Crystal Carpet Spot Remover

7930-00-NIB-0353—Mineral Shock Cleaner

NPA: Blind Industries & Services of Maryland, Baltimore, Maryland

Contract Activity: Office Supplies & Paper Products Acquisition Center, New York, New York

Product/NSN: Skilcraft SAVVY Cleaning Products

7930-00-NIB-0080—SKILCRAFT SAVVY Green Plus—1 gallon

7930-00-NIB-0081—SKILCRAFT SAVVY Green Plus—5 gallon

7930-00-NIB-0082—SKILCRAFT SAVVY Green Plus—55 gallon

7930-00-NIB-0152—SKILCRAFT SAVVY Unreal Spot Remover—32 ounce

7930-00-NIB-0153—SKILCRAFT SAVVY Unreal Spot Remover—1 gallon

7930-00-NIB-0154—SKILCRAFT SAVVY Unreal Spot Remover—5 gallon

7930-00-NIB-0155—SKILCRAFT SAVVY Unreal Spot Remover—55 gallon

7930-00-NIB-0156—SKILCRAFT SAVVY Non Acid Bathroom Cleaner—32 ounce

7930-00-NIB-0157—SKILCRAFT SAVVY Non Acid Bathroom Cleaner—1 gallon

7930-00-NIB-0158—SKILCRAFT SAVVY Non Acid Bathroom Cleaner—5 gallon

7930-00-NIB-0159—SKILCRAFT SAVVY Non Acid Bathroom Cleaner—55 gallon

7930-00-NIB-0173—SKILCRAFT SAVVY Green Plus—32 ounce

7930-00-NIB-0183—SKILCRAFT SAVVY Green—32 ounce

7930-00-NIB-0184—SKILCRAFT SAVVY Green—5 gallon

7930-00-NIB-0185—SKILCRAFT SAVVY Green—1 gallon

7930-00-NIB-0189—SKILCRAFT SAVVY Green—55 gallon

NPA: Susquehanna Association for the Blind and Visually Impaired, Lancaster, Pennsylvania

Contract Activity: Office Supplies & Paper Products Acquisition Center, New York, New York

Product/NSN: Staple Remover.

7520-00-162-6177

Product/NSN: Stapler, Stand Up—Vertical Grip

7520-00-NSH-0200

NPA: The Arc of Bergen and Passaic Counties, Inc., Hackensack, New Jersey

Contract Activity: Office Supplies & Paper Products Acquisition Center, New York, New York

Product/NSN: Telephone Cards

M.R. 987

M.R. 988

M.R. 993

NPA: Winston-Salem Industries for the Blind, Winston-Salem, North Carolina

Contract Activity: Defense Commissary Agency (DeCA), Ft. Lee, Virginia.

Louis R. Bartalot,
Acting Deputy Executive Director.

[FR Doc. 03-22145 Filed 8-28-03; 8:45 am]

BILLING CODE 6353-01-P